DEPARTMENT OF LABOR

Mine Safety and Health Administration

30 CFR Part 48

[Docket No. MSHA-2025-0085]

RIN 1219-AC19

Training and Retraining of Miners

AGENCY: Mine Safety and Health Administration, Department of Labor.

ACTION: Proposed rule; extension of comment period.

SUMMARY: The Mine Safety and Health Administration (MSHA) is extending the comment period on the proposed rule titled, “Training and Retraining of Miners,” published in the Federal Register on July 1, 2025, with an established public comment period that is scheduled to end on July 31, 2025. MSHA is extending the comment period for an additional 30 days—from July 31, 2025, to September 2, 2025.

DATES: The comment period for the proposed rule that was published on July 1, 2025, at 90 FR 28383 is extended. All comments must be submitted by midnight Eastern Time on September 2, 2025.

ADDRESSES: All submissions must include RIN 1219-AC19 or Docket No. MSHA-2025-0085. You should not include personal or proprietary information that you do not wish to disclose publicly. If you mark parts of a comment as “business confidential” information, MSHA will not post those parts of the comment. Otherwise, MSHA will post all comments without change, including any personal information provided. MSHA cautions against submitting personal information.

You may submit comments and informational materials, clearly identified by RIN 1219-AC19 or Docket Id. No. MSHA-2025-0085, by any of the following methods:

1. Federal eRulemaking Portal: https://www.regulations.gov. Follow the online instructions for submitting comments for MSHA-2025-0085.

2. Email: zzMSHA-comments@dol.gov. Include “RIN 1219-AC19” in the subject line of the message.

3. Regular Mail or Hand Delivery: MSHA, Office of Standards, Regulations, and Variances, Room C3522, 200 Constitution Avenue NW, Washington, DC 20210.

FOR FURTHER INFORMATION CONTACT: Jessica D. Senk, Acting Director, Office of Standards, Regulations, and Variances, MSHA at 202-693-9440 (voice). This is not a toll-free number.

SUPPLEMENTARY INFORMATION: On July 1, 2025, MSHA published in the Federal Register the proposed rule titled, “Training and Retraining of Miners” (90 FR 28383). The proposed rule is available at the Federal eRulemaking Portal, https://regulations.gov. The proposed rule would amend MSHA's regulations to eliminate provisions that allow District Managers to require changes in, or additions to, training programs.

The public comment period for this proposed rule was scheduled to close on July 31, 2025, 30 days after publication of the proposed rule. MSHA is extending the comment period until September 2, 2025, to provide stakeholders and interested parties an additional 30 days to review the proposal and prepare comments.

James P. McHugh,
Deputy Assistant Secretary for Policy, Mine Safety and Health Administration.

[FR Doc. 2025-13749 Filed 7-21-25; 8:45 am]

BILLING CODE 4520-43-P